FEDERAL TRADE COMMISSION

Granting of Request for Early Termination of the Waiting Period Under the Premerger Notification Rules

Section 7A of the Clayton Act, 15 U.S.C. 18a, as added by Title II of the Hart-Scott Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transaction Granted Early Termination
ET Date | Trans No. | ET Req status | Party name
01-OCT-10 | 20101109 | G | CA, Inc.
|  | G | Arcot Systems, Inc.
|  | G | Arcot Systems, Inc.
| 20101137 | G | Grupo Kuo S.A.B. de C.V.
|  | G | TSG4 L.P.
|  | G | Don Miguel Foods Corp.
| 20101138 | G | Hechos con Amor S.A. de C.V.
|  | G | TSG4 L.P.
|  | G | Don Miguel Foods Corp.
| 20101159 | G | Trilantic Capital Partners IV L.P.
|  | G | Fortitech, Inc.
|  | G | Fortitech, Inc.
| 20101160 | G | United-Health Group Incorporated.
|  | G | A-Life Medical, Inc.
|  | G | A-Life Medical, Inc.
| 20101161 | G | Hewlett-Packard Company.
|  | G | ArcSight, Inc.
|  | G | ArcSight, Inc.
| 20101167 | G | Windy City Investments Holdings, L.L.C.
|  | G | U.S. Bancorp.
|  | G | FAF Advisors, Inc.
| 20101168 | G | Investor AB.
|  | G | Molnlycke AB.
|  | G | Molnlycke AB.
| 20101169 | G | Siemens Aktiengesellschaft.
|  | G | Republic ITS Holdings, LLC.
|  | G | Republic Intelligent Transportation Services, Inc.
| 20101172 | G | Grupo Nacional de Chocolates S.A.
|  | G | Charles Stephen Fehr.
|  | G | Fehr Holdings, LLC.
| 20101176 | G | Summit Partners Private Equity Fund VII-A, L.P.
|  | G | Great Hill Equity Partners II, L.P. Central Security Group Holdings, Inc.
| 20101179 | Y | The Charles Schwab Corporation.
|  | Y | Stephen J. Cucchiaro.
|  | Y | Windward Investment Management, Inc.
| 20101183 | G | Novacap Industries III, L.P.
|  | G | IPL Inc.
|  | G | IPL Inc.
04-OCT-10 | 20101171 | G | GDF SUEZ S.A.
|  | G | International Power plc.
|  | G | International Power plc.
| 20101177 | G | Churchill Downs Incorporated.
|  | G | SWG Holdings, LLC.
|  | G | SW Gaming, LLC.
| 20101184 | G | Noble Group Limited.
|  | G | The Royal Bank of Scotland Group plc.
|  | G | Sempra Energy Solutions LLC.
| 20101186 | G | Noble Group Limited.
|  | G | Sempra Energy.
|  | G | Sempra Energy Solutions LLC.
05-OCT-10 | 20101174 | G | Lindsay Goldberg III L.P.
|  | G | Philip J. Edmundson.
|  | G | William Gallagher Associates Insurance Brokers, Inc.
| 20101188 | G | Cortec Group Fund IV, L.P.
|  | G | Renovare Capital Partners, LP.
|  | G | Franklin Energy Services, LLC.
07-OCT-10 | 20100988 | G | Forstmann Little & Co. Equity Partnership VII, L.P.
|  | G | Ben C. Sutton, Jr.
|  | G | ISP Sports, LLC.
12-OCT-10 | 20101153 | G | Dayton-Cox Trust A.
|  | G | vAuto, Inc.
|  | G | vAuto, Inc.
| 20101178 | G | Alfa Laval AB.
|  | G | Munters AB.
|  | G | Munters AB.
| 20101185 | G | Warner Chilcott plc.
|  | G | Novartis AG.
|  | G | Novartis Pharma AG.
|  | G | Novartis Pharmaceuticals Corporation.
| 20101192 | G | Medtronic, Inc.
|  | G | Osteotech, Inc.
|  | G | Osteotech, Inc.
| 20101193 | G | Avista Capital Partners II, L.P.
|  | G | The Clorox Company.
|  | G | Armor All STP.
|  | G | STP Products Manufacturing Company.
|  | G | Clorox Europe, Ltd.
| 20101196 | G | Stichting Gerdau Johannapeter.
|  | G | Ameron International Corporation.
|  | G | TAMCO Steel.
| 20101198 | G | Verizon Communications Inc.
|  | G | Cass Cellular Limited Partnership.
|  | G | Michigan RSA #9 Limited Partnership.
| 20101199 | G | Green Plains Renewable Energy, Inc.
|  | G | Investec plc.
|  | G | Global Ethanol, LLC.
|  | G | Global Ethanol Inc.
| 20101201 | G | Mr. LilzarKai, Richard.
|  | G | Chegg, Inc.
|  | G | Chegg, Inc.
| 20101205 | G | Kenneth D. Moelis.
|  | G | Daniel L. Nir.
|  | G | P&S Credit Management, L.P.
| 20110003 | G | Hellman & Friedman Capital Partners VI, L.P.
|  | G | ldealab.
|  | G | Internet Brands, Inc.
13-OCT-10 | 20101141 | G | West Virginia United Health System, Inc.
|  | G | Camden-Clark Health Services, Inc.
|  | G | Camden-Clark Health Services, Inc.
| 20101142 | G | West Virginia United Health System, Inc.
|  | G | Signature Hospital Holdings, LLC.
|  | G | St. Joseph's Healthcare System LP.
| 20101164 | G | Li&Fung Limited.
|  | G | Integrated Distribution Services Group Limited.
|  | G | Integrated Distribution Services Group Limited.
| 20101191 | G | NRGEnergy, Inc.
|  | G | Green Mountain Energy Company.
|  | G | Green Mountain Energy Company.
| 20101204 | G | Plains Exploration & Production Company.
|  | G | McMoRan Exploration Co.
|  | G | McMoRan Exploration Co.
| 20110001 | G | The Johns Hopkins Health System Corporation.
|  | G | All Children's Health System, Inc.
|  | G | All Children's Health System, Inc.
| 20110002 | G | Siemens Aktiengesellschaft.
|  | G | Arthur D. Sharplin, Jr.
|  | G | Site Controls, LLC.
| 20110005 | G | Madison Dearborn Capital Partners Vl-A, L.P.
|  | G | Fieldglass, Inc.
|  | G | Fieldglass, Inc.
| 20110006 | G | International Business Machines Corporation.
|  | G | Garnett & Helfrich Capital, L.P.
|  | G | Blade Network Technologies, Inc.
14-OCT-10 | 20101133 | G | MedAssets, Inc.
|  | G | Broadlane Holdings, LLC.
|  | G | Broadlane Intermediate Holdings, Inc.
| 2011010 | G | ACE Limited.
|  | G | Rain and Hail Insurance Service, Inc.
|  | G | Rain and Hail Insurance Service, Inc.
| 20110014 | G | Francisco Partners II (Cayman), L.P.
|  | G | Technicolor S.A.
|  | G | Thomson 000.
|  | G | Grass Valley Spain SA.
|  | G | Brazil GV Newco.
|  | G | Thomson Licensing SAS.
|  | G | Grass Valley Germany GmbH.
|  | G | Grass Valley Australia PTY Limited.
|  | G | Grass Valley Singapore PTE Ltd.
|  | G | Canopus Asia Co. Limited.
|  | G | Grass Valley Canada, Inc.
|  | G | US GV Newco (to be formed).
|  | G | Grass Valley Nederland BV.
|  | G | Thomson Grass Valley France SA.
|  | G | Thomson Canopus Co. Limited.
|  | G | Thomson Italia SrI.
15-OCT-10 | 20101064 | G | Mark C. Simmons.
|  | G | Menu Food Income Fund.
|  | G | Menu Foods Limited.
18-OCT-10 | 20101175 | G | International Business Machines Corporation.
|  | G | OpenPages, Inc.
|  | G | OpenPages, Inc.
| 20101181 | G | SoftLayer Holdings, Inc.
|  | G | The PIanetJE.I. Holdings, LLC.
|  | G | The Planet.com Internet Services, Inc.
19-OCT-10 | 20110008 | G | Oprah Winfrey.
|  | G | Discovery Communications, Inc.
|  | G | Discovery Communications, Inc.
| 20110016 | G | Exelon Corporation.
|  | G | Deere & Company.
|  | G | John Deere Renewables, LLC.
| 20110018 | G | Sharp Corporation.
|  | G | Hudson Clean Energy Partners, L.P.
|  | G | Recurrent Energy, LLC.
| 20110019 | G | Permira IV Continuing LP2.
|  | G | Ian Quinn.
|  | G | Creganna Solutions Limited.
| 20110020 | G | Seadrill Limited.
|  | G | Allis-Chalmers Energy Inc.
|  | G | Allis-Chalmers Energy Inc.
| 20110021 | G | TA XI L.P.
|  | G | Dr. James and Cecelia Leiniger.
|  | G | MedSolutions, Inc.
| 20110022 | G | Elbit Systems Ltd.
|  | G | Mr. Ted B. Miller, Jr.
|  | G | M7 Aerospace LP.
| 20110023 | G | Earthlink, Inc.
|  | G | ITC-DeltaCom, Inc.
|  | G | ITC-DeltaCom, Inc.
| 20110024 | G | Onex Partners III LP.
|  | G | Res-Care, Inc.
|  | G | Res-Care, Inc.
| 20110033 | G | Greenbriar Equity Fund II, L.P.
|  | G | Dynamex Inc.
|  | G | Dynamex Inc.
21-OCT-10 | 20110026 | G | AMETEK, Inc.
|  | G | Industrial Growth Partners UI, L.P.
|  | G | Atlas Material Holdings Corporation.
| 20110027 | G | Ebix, Inc.
|  | G | A.D.A.M., Inc.
|  | G | A.D.A.M., Inc.
| 20110029 | G | Gryphon Partners III, L.P.
|  | G | Andrew H. Stillman and Cassandra M. Stillman.
|  | G | American Importing Company, Inc.
|  | G | Broadway Properties Partnership.
| 20110039 | G | Huntsman Gay Capital Partners Fund, L.P.
|  | G | Citigroup Venture Capital International Growth Partnership LP.
|  | G | Receivable Management Services International, Inc.
| 20110045 | G | Lightyear Fund II, L.P.
|  | G | Southwest Insurance Partners, Inc.
|  | G | Southwest Insurance Partners, Inc.
22-OCT-10 | 20110042 | G | Insight Venture Partners VI, L.P.
|  | G | Overdrive, Inc.
|  | G | Overdrive, Inc.
| 20110044 | G | Blackstone Capital Partners V L.P.
|  | G | MatlinPatterson Global Opportunities Partners L.P.
|  | G | Polymer Group, Inc.
| 20110046 | G | Sally W. Yelland.
|  | G | Lance, Inc.
|  | G | Lance, Inc.
| 20110049 | G | Enterprise Products Partners, L.P.
|  | G | Arlen B. Cenac, Jr.
|  | G | Cenac Offshore, L.L.C.
|  | G | Cenac Towing Co., L.L.C.
|  | G | Channelview Fleeting Services, LLC.
|  | G | CTCO of Texas, LLC.
|  | G | CTCO Shipyard of Louisiana, LLC.
|  | G | CTCO Marine Services, LLC.
| 20110052 | G | TPG V Hamlet AIV, L.P.
|  | G | Hamlet Holdings LLC.
|  | G | Harrah's Entertainment, Inc.
| 20110054 | G | TPG Hamlet Holdings B, LLC.
|  | G | Hamlet Holdings LLC.
|  | G | Harrah's Entertainment, Inc.
| 20110058 | G | Apollo Hamlet Holdings, LLC.
|  | G | Hamlet Holdings LLC.
|  | G | Harrahs Entertainment, Inc.
| 20110059 | G | Co-Invest Hamlet Holdings B, LLC.
|  | G | Hamlet Holdings LLC.
|  | G | Harrah's Entertainment, Inc.
| 20110060 | G | Apollo Investment Fund VI, L.P.
|  | G | Hamlet Holdings LLC.
|  | G | Harrahs Entertainment, Inc.
| 20110061 | G | Co-Invest Hamlet Holdings, Series LLC.
|  | G | Hamlet Holdings LLC.
|  | G | Harrah's Entertainment, Inc.
| 20110066 | G | MetroPCS Communications, Inc.
|  | G | Youghigheny Communications—Northeast Holdings, Inc.
|  | G | Youghigheny Communications—Northeast, LLC.
|  | G | Youghigheny Communications—Northeast Spectrum, LLC.
| 20110070 | G | Harbour Group Investments V, L.P.
|  | G | 2003 Riverside Capital Appreciation Fund, L.P.
|  | G | Hardware Resources Holding Company, Inc.
| 20110072 | G | PBF Energy Company.
|  | G | Valero Energy Corporation.
|  | G | Valero Refining and Marketing Company.
|  | G | Valero Refining Company—New Jersey.
|  | G | Valero Natural Gas Pipeline Company.
|  | G | Valero Marketing and Supply Company.
25-OCT-10 | 20110030 | G | EnCap Energy Infrastructure Fund, L.P.
|  | G | Antero Resources, LLC.
|  | G | Centrahoma Processing LLC.
|  | G | Antero Resources Midstream Corporation.
|  | G | Antero Resources, LLC.
26-OCT-10 | 20110034 | G | Raytheon Company.
|  | G | Trusted Computer Solutions, Inc.
|  | G | Trusted Computer Solutions, Inc.
| 20110073 | G | Moelis Capital Partners Opportunity Fund I, LP.
|  | G | Holdco.
|  | G | Holdco.
| 20110074 | G | NC VII Limited.
|  | G | MuntersAB.
|  | G | MuntersAB.
27-OCT-10 | 20110065 | G | American Securities Partners V, L.P.
|  | G | AZ Chem Investments Partners LP.
|  | G | US HoldCo.
28-OCT-10 | 20110017 | G | Francisco Partners II, L.P.
|  | G | Quantros, Inc.
|  | G | Quantros, Inc.
| 20110071 | G | Broadcom Corporation.
|  | G | Beceem Communications.
|  | G | Beceem Communications.
29-OCT-10 | 20110082 | G | Harvest Partners V, L.P.
|  | G | Bartlett Holdings, Inc.
|  | G | Bartlett Holdings, Inc.
| 20110084 | G | American Securities Partners V, L.P.
|  | G | Friedman Fleischer & Lowe Capital Partners, L.P.
|  | G | Kool Smiles Holding Corp.
| 20110086 | G | CSG Systems International, Inc.
|  | G | Intec Telecom Systems plc.
|  | G | Intec Telecom Systems plc.
| 20110097 | G | United Technologies Corporation.
|  | G | Clipper Windpower Plc.
|  | G | Clipper Windpower Plc.
| 20110098 | G | Northern Tier Investors LLC.
|  | G | Marathon Oil Corporation.
|  | G | Northern Tier Holdings LLC.

FOR FURTHER INFORMATION CONTACT: Sandra M. Peay, Contact Representative or Renee Chapman, Contact Representative, Federal Trade Commission, Premerger Notification Office, Bureau of Competition, Room H-303, Washington, DC 20580, (202) 326-3100.

By Direction of the Commission.
Donald S. Clark,
Secretary.

[FR Doc. 2010-28369 Filed 11-12-10; 8:45 am]

BILLING CODE 6750-01-M